DEPARTMENT OF JUSTICE

Notice of Lodging of Consent Decree Pursuant to the Comprehensive Environmental Response, Compensation, and Liability Act

Notice is hereby given that an agreed order amending the consent decree in United States v. A&D Recycling, Inc., et al., Civil Action No. 1:CV-99-1332 (M.D. Pa.) was lodged with the court on January 22, 2001.

The original consent decree resolves claims of the United States against 120 defendants under sections 106 and 107 of the Comprehensive Environmental Response, Compensation and Liability Act, as amended ( “CERCLA” ), 42 U.S.C. 9606 and 9607, for response costs and actions at the Jack's Creek Superfund Site in Mifflin County, PA. The proposed amendment reduces the amount one de minimis party, United Holdings Co., Inc., is required to pay from $58,526.44 to $33,600. This reduction is made based on a mutual mistake of fact in the original decree as to the amount of material United sent to the site.

The Department of Justice will receive, for a period of thirty (30) days from the date of this publication, comments relating to the proposed amendment. Comments should be addressed to the Assistant Attorney General for the Environment and Natural Resources Division, Department of Justice, Washington, D.C. 20530, and should refer to United States v. A&D Recycling, Inc., et al., Civil Action No. 1:CV-99-1332 (M.D. Pa.), DOJ Ref. #90-11-2-911.

The proposed amendment may be examined and copied at the Office of the United States Attorney, Room 1162, Federal Building, 228 Walnut Street, Harrisburg, PA 17108; or at the Region III Office of the Environmental Protection Agency, c/o Daniel Isales, Assistant Regional Counsel, 1650 Arch Street, Philadelphia, PA 19103. A copy of the proposed amendment may be obtained by mail from the Consent Decree Library, P.O. Box No. 7611, Washington, DC 20044. In requesting a copy, please refer to the referenced case and enclose a check in the amount of $2.75 (25 cents per page reproduction costs), payable to the Consent Decree Library. Exhibits to the amendment may be obtained for an additional fee.

Bruce Gelber,
Chief, Environmental Enforcement Section, Environment and Natural Resources Division.

[FR Doc. 01-3276 Filed 2-7-01; 8:45 am]

BILLING CODE 4410-15-M